DEPARTMENT OF ENERGY

Federal Energy Regulatory Commission

Combined Notice of Filings #1

Take notice that the Commission received the following electric corporate filings:

Docket Numbers: EC16-112-000.

Applicants: West Valley Power, LLC.

Description: West Valley Power, LLC Response to Commission May 25, 2016 Data Request.

Filed Date: 6/3/16.

Accession Number: 20160603-5288.

Comments Due: 5 p.m. ET 6/13/16.

Docket Numbers: EC16-127-000.

Applicants: Verso Corporation, Verso Maine Energy LLC, Rumford Paper Company, NewPage Energy Services LLC.

Description: Application for Disposition of Jurisdictional Facilities under Section 203 of the Federal Power Act of Verso Corporation, et al.

Filed Date: 6/2/16.

Accession Number: 20160602-5481.

Comments Due: 5 p.m. ET 6/23/16.

Docket Numbers: EC16-128-000.

Applicants: Electricity Maine, LLC, Electricity NH, LLC, Provider Power MASS, LLC, Spark Holdco, LLC.

Description: Application For Authorization Under Section 203 Of The Federal Power Act And Requests For Waiver Of Filing Requirements, Expedited Consideration And Shortened Comment Period Of Electricity Maine, LLC et al.

Filed Date: 6/2/16.

Accession Number: 20160602-5483.

Comments Due: 5 p.m. ET 6/23/16.

Docket Numbers: EC16-129-000.

Applicants: Macquarie Wind Farm LLC.

Description: Application for Authorization for Disposition of Jurisdictional Facilities and Request for Expedited Action and Abbreviated Comment Period of Macquarie Wind Farm LLC.

Filed Date: 6/3/16.

Accession Number: 20160603-5271.

Comments Due: 5 p.m. ET 6/24/16.

Take notice that the Commission received the following exempt wholesale generator filings:

Docket Numbers: EG16-109-000.

Applicants: Tyler Bluff Wind Project, LLC.

Description: Notice of Self-Certification of Exempt Wholesale Generator Status of Tyler Bluff Wind Project, LLC.

Filed Date: 6/6/16.

Accession Number: 20160606-5235.

Comments Due: 5 p.m. ET 6/27/16.

Take notice that the Commission received the following electric rate filings:

Docket Numbers: ER16-917-001; ER14-2458-001; ER11-3013-005; ER10-2872-005; ER10-2870-006; ER10-2868-005; ER10-2865-006; ER10-2860-007.

Applicants: TC Ironwood LLC, TransCanada Power Marketing Ltd, TransCanada Energy Sales Ltd., TC Ravenswood, LLC, TransCanada Maine Wind Development Inc., TransCanada Hydro Northeast Inc., Ocean State Power LLC, Coolidge Power LLC.

Description: Second Amendment to March 2, 2016 Notice of Non-Material Change in Status of TransCanada MBR Sellers, et al.

Filed Date: 6/3/16.

Accession Number: 20160603-5291.

Comments Due: 5 p.m. ET 6/24/16.

Docket Numbers: ER15-1535-002.

Applicants: Midcontinent Independent System Operator, Inc.

Description: Compliance filing: 2016-06-06_SA 6507 White Pine 1 SSR Agreement Compliance Filing to be effective 4/16/2015.

Filed Date: 6/6/16.

Accession Number: 20160606-5131.

Comments Due: 5 p.m. ET 6/27/16.

Docket Numbers: ER16-1107-002.

Applicants: Midcontinent Independent System Operator, Inc., ALLETE, Inc.

Description: Compliance filing: 2016-06-06_ALLETE-GRE Zonal Agreement Compliance Filing to be effective 5/8/2016.

Filed Date: 6/6/16.

Accession Number: 20160606-5174.

Comments Due: 5 p.m. ET 6/27/16.

Docket Numbers: ER16-1108-002.

Applicants: Midcontinent Independent System Operator, Inc., ALLETE, Inc.

Description: Compliance filing: 2016-06-06_SA 2905 ALLETE-GRE Zonal Agreement WDS Compliance Filing to be effective 5/8/2016.

Filed Date: 6/6/16.

Accession Number: 20160606-5175.

Comments Due: 5 p.m. ET 6/27/16.

Docket Numbers: ER16-1879-000.

Applicants: New York State Electric & Gas Corporation.

Description: § 205(d) Rate Filing: Executed Interconnection Agreement and Notice of Cancellation to be effective 5/5/2016.

Filed Date: 6/3/16.

Accession Number: 20160603-5245.

Comments Due: 5 p.m. ET 6/24/16.

Docket Numbers: ER16-1880-000.

Applicants: Public Service Company of Colorado.

Description: § 205(d) Rate Filing: PSCo PRPA LaPorte PPA 174 0.0.0 Filing to be effective 5/31/2016.

Filed Date: 6/6/16.

Accession Number: 20160606-5151.

Comments Due: 5 p.m. ET 6/27/16.

Docket Numbers: ER16-1881-000.

Applicants: Public Service Company of Colorado.

Description: § 205(d) Rate Filing: PSCo SSC E&P 382 NOC Filing to be effective 6/7/2016.

Filed Date: 6/6/16.

Accession Number: 20160606-5152.

Comments Due: 5 p.m. ET 6/27/16.

Docket Numbers: ER16-1883-000.

Applicants: Midcontinent Independent System Operator, Inc., MidAmerican Energy Company.

Description: § 205(d) Rate Filing: 2016-06-06_SA 2787 MidAmerican-Interstate Power & Light WDS (George, IA) to be effective 9/1/2016.

Filed Date: 6/6/16.

Accession Number: 20160606-5197.

Comments Due: 5 p.m. ET 6/27/16.

Docket Numbers: ER16-1884-000.

Applicants: PJM Interconnection, L.L.C.

Description: § 205(d) Rate Filing: First Revised Service Agreement No. 1878, Queue No. AA2-127 to be effective 5/6/2016.

Filed Date: 6/6/16.

Accession Number: 20160606-5198.

Comments Due: 5 p.m. ET 6/27/16.

Docket Numbers: ER16-1885-000.

Applicants: MidAmerican Energy Company, Midcontinent Independent System Operator, Inc.

Description: § 205(d) Rate Filing: 2016-06-06_SA 2902 MidAmerican-Interstate Power & Light WDS (St. Joseph, IA) to be effective 9/1/2016.

Filed Date: 6/6/16.

Accession Number: 20160606-5208.

Comments Due: 5 p.m. ET 6/27/16.

Docket Numbers: ER16-1886-000.

Applicants: California Independent System Operator Corporation.

Description: § 205(d) Rate Filing: 2016-06-06 Tariff Amendment to Implement Pricing Enhancements to be effective 9/7/2016.

Filed Date: 6/6/16.

Accession Number: 20160606-5227.

Comments Due: 5 p.m. ET 6/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2016.
Nathaniel J. Davis, Sr.,
Deputy Secretary.

[FR Doc. 2016-13895 Filed 6-10-16; 8:45 am]

BILLING CODE 6717-01-P